ENVIRONMENTAL PROTECTION AGENCY

[FRL-7074-4]

Clean Air Act; Contractor Access to Confidential Business Information

AGENCY: Environmental Protection Agency (EPA).

ACTION: Notice.

SUMMARY: EPA has contracted with The Bionetics Corporation to provide assistance in the enforcement of regulatory requirements under the Clean Air Act, the Clean Water Act, the Resource Conservation and Recovery Act, and the Toxic Substances Control Act, from May 30, 2001, until May 31, 2006. The Bionetics Corporation has been authorized to have access to information submitted to EPA under these statutes that may be claimed and determined to be confidential business information.

DATES: This notice is effective October 4, 2001.

FOR FURTHER INFORMATION CONTACT: Ross Ruske, Environmental Scientist, USEPA, Mail Code (2242A), 1200 Pennsylvania Avenue, NW., Washington, DC 20460. Telephone: (202) 564-1033. Fax: (202) 564-1024. Internet mail address: ruske.ross@epamail.epa.gov.

SUPPLEMENTARY INFORMATION: EPA has authorized access for The Bionetics Corporation (“Bionetics”), a contractor, to information submitted to the EPA under the Clean Air Act, the Clean Water Act, the Resource Conservation and Recovery Act, and the Toxic Substances Control Act. Some of this information may be claimed and determined to be confidential business information (“CBI”). The EPA contract number is 68-W-01-035.

The Bionetics corporate address is: The Bionetics Corporation, 11833 Canon Boulevard, Suite #100, Newport News, VA 23606.

Under the contract, Bionetics provides enforcement support to the Air Enforcement Division, Office of Regulatory Enforcement, Office of Enforcement and Compliance Assurance in a number of activities primarily related to the Clean Air Act. The contractor may also be called upon to provide support to other EPA offices under the other statutes. The activities in which Bionetics provides enforcement support include, but are not limited to:

Inspections and audits of facilities that produce, import, store, transport, dispense or analyze motor vehicle fuel; and,

Inspections and audits of facilities that produce, distribute, sell or repair motor vehicles, motor vehicle engines, or non-road engines.

The type of information that may be disclosed includes, but are not limited to: Records related to the production, importation, distribution, sale, storage, testing and transportation of gasoline, gasoline blendstocks, diesel fuel, diesel fuel blendstocks, and detergent additives; and records related to the manufacture, importation, emission certification, emission testing, emission control warranty, repair, modification and fueling of motor vehicles, motor vehicle engines, non-road mobile source engines, and stationary source engines.

It is necessary for Bionetics to have access to these records in order to prepare reports that EPA uses to evaluate whether regulated parties are in compliance with applicable regulatory requirements under the above listed statutes. Bionetics may be assisted in these activities by a subcontractor, Patterson & Associates of Houston, Texas, working under Bionetics subcontract No. 017-001.

In accordance with 40 CFR 2.301(h)(2), EPA has determined that disclosure of confidential business information to Bionetics and its subcontractor is necessary for these entities to carry out the work required by this contract. EPA is issuing this notice to inform all submitters of information to the EPA under the Clean Air Act, the Clean Water Act, the Resource Conservation and Recovery Act, and the Toxic Substances Control Act, that EPA may allow access to CBI contained in such submittals to Bionetics and their subcontractor as necessary to carry out work under this contract. Disclosure of CBI under this contract may continue until May 31, 2006.

As required by 40 CFR 2.301(h)(2), the Bionetics contract includes provisions to assure the appropriate treatment of CBI disclosed to contractors and subcontractors. Similar requirements are contained under 40 CFR 2.302(h), 40 CFR 2.305(h), and 40 CFR 2.306(j), for the Clean Water Act, the Resource Conservation and Recovery Act, and the Toxic Substances Control Act, respectively. The notice is intended to meet the requirements of these regulations as well.

Dated: September 28, 2001.
Bruce C. Buckheit,
Director, Air Enforcement Division.

[FR Doc. 01-24908 Filed 10-3-01; 8:45 am]

BILLING CODE 6560-50-P